DEPARTMENT OF AGRICULTURE

Forest Service

Clear Prong Project, Boise National Forest, Idaho

AGENCY: Forest Service, USDA.

ACTION: Notice of Intent to Prepare Environmental Impact Statement.

SUMMARY: The Cascade Ranger District of the Boise National Forest will prepare an Environmental Impact Statement (EIS) for the Clear Prong Project. The entire project area is located in watersheds that drain into Clear Creek, which in turn drains into the North Fork of the Payette River downstream of Cascade Reservoir. The 11,056 acre project area is located 10 miles east of Cascade, Idaho, and about 120 miles north of Boise, Idaho. The agency invites written comments and suggestions on the scope of the analysis. The agency also hereby gives notice of the environmental analysis and decision-making process that will occur on the proposal so interested and affected people are aware of how they may participate and contribute to the final decision. At this time no public meetings to discuss the project are planned.

Proposed Action: Seven objectives have been identified for the project: (1) Move toward restoration of historic vegetative conditions by manipulating the forest structure, density, and species composition in order to accelerate development of larger tree size class stands and old forest habitat; (2) Consistent with Objective #1, reduce the level of heavy dwarf mistletoe infection in Douglas-fir trees where deemed necessary to accelerate development of larger tree size class stands and old forest habitat; (3) Move stands toward their historic conditions by reducing fuel loads and ladder fuels through the use of prescribed fire where such an action could be accomplished without substantial mortality of the overstory trees and where topographic features would make the use of prescribed fire a practical management action; (4) Improve the health, vigor, and sustainability of aspen clones by eliminating competing conifer and brush species; (5) Utilize wood products created by restoration treatments to support local and regional economies as an outcome of pursuing Objectives #1 and #2 above; (6) Reduce management-induced sediment and recurring maintenance needs, and address the intent of the TMDL, by graveling road surfaces and replacing under-sized culverts; and (7) Reduce the potential for sedimentation and future maintenance needs, and address the intent of the TMDL, by decommissioning roads not needed for the long-term management of the Forest.

The Proposed Action would implement silvicultural activities, including thinning of sub-merchantable trees, prescribed fire, and aspen enhancement on 2,204 acres. An estimated 8.4 MMbf would be removed using tractor/off-road jammer, skyline, and helicopter yarding systems. The Proposed Action would employ a variety of silvicultural prescriptions including commercial thin, commercial thin with prescribed fire, sanitation/improvement, sanitation/improvement with prescribed fire, individual tree selection, thinning of sub-merchantable trees, prescribed fire to abate natural fuels, and aspen enhancement activities.

The Proposed Action would restore an estimated 0.8 miles of the #409 road through maintenance activities to reduce sedimentation. Specifically, gravel would be applied to the surface of the #409 road from near the #409/#409D intersection to Clear Creek Summit. In addition, 12 under-sized culverts along the #409 road would be replaced with culverts sufficient in size to accommodate a 100-year flow event, and designed to allow fish passage where habitat exists upstream. Roughly 1.1 miles of temporary road would be constructed to facilitate harvest activities.

An estimated 4.4 miles of existing road (#405B, #405B2, #405C, #405D, and #417HX1) not needed for the long term management of the area would be decommissioned to reduce future maintenance needs and to reduce sedimentation. Decommissioned sections of these five roads would be removed from the transportation system.

Preliminary Issues: Preliminary concerns with the Proposed Action include potential impacts on water quality and terrestrial wildlife species.

Possible Alternatives to the Proposed Action: One alternative to the Proposed Action that has been discussed thus far is a no action alternative. Other alternatives will likely be developed as issues are identified and information received.

Decisions To Be Made: The Boise National Forest Supervisor will decide the following: (1) Should vegetation be managed within the project area at this time, and if so, which stands should be treated and what silvicultural systems applied? (2) Should temporary roads be built at this time, and if so, how many miles should be built and where should they occur within the project area? (3) Should existing classified roads within the project area receive maintenance activities to reduce sedimentation, and if so, where within the project area? (4) Should portions of roads #405B, #405B2, #405C, #405D, and #417HX1 be decommissioned at this time? (5) Based on the completed Clear Prong Project Roads Analysis, which roads should be adopted as the minimum transportation system? (6) What design features, mitigation measures, and/or monitoring should be applied to the project?

DATES: Comments concerning the proposed project and analysis are encouraged and should be postmarked or received within 30 days following publication of this announcement in the Federal Register.

ADDRESSES: Comments should be addressed to the Cascade Ranger District, ATTN: Keith Dimmett, P.O. Box 696, Cascade, ID 83611 or sent electronically to comments-intermtn-bojse-cascade@fs.fed.us. Electronic comments must be submitted in plain text or another format compatible with Microsoft Word. Comments may also be delivered to the above address during regular business hours of 8 a.m. to 4:30 p.m. Monday-Friday. Comments can also be submitted by phone at 208-382-7400 or FAX to 208-382-7480. Comments received in response to this request will be available for public inspection and will be released in their entirety if requested pursuant to the Freedom of Information Act.

FOR FURTHER INFORMATION CONTACT: Further information can be obtained from Keith Dimmett at the address mentioned above or by calling 208-382 7400.

Schedule: Draft Environmental Impact Statement (DEIS), January 2010. Final Environmental Impact Statement (FEIS), April 2010.

SUPPLEMENTARY INFORMATION: An estimated 2,194 acres of the Peace Rock Inventoried Roadless Area (IRA) and an additional 252 acres of the Stony Meadows IRA lie within the Clear Prong Project Area. With the exception of a small portion of the prescribed fire, none of the activities associated with the Proposed Action would occur within either IRA.

The entire project area drains into Clear Creek which appears on the State of Idaho's 303(d) and 305(b) Integrated Report. The North Fork Payette River Subbasin Assessment and Total Maximum Daily Load (TMDL) was completed in July 2005 by the Idaho Department of Environmental Quality (IDEQ) and approved by the U.S. Environmental Protection Agency in August 2005. That document states that the beneficial uses of “Upper Clear Creek” (i.e. that portion that occurs within the project area) do not appear impacted, but may be threatened by increasing sediment levels.

The entire project area lies within Management Area 17 (North Fork Payette River), discussed on pages 111-290 through 111-301 in the Forest Plan.

The comment period on the DEIS will be 45 days from the date the Environmental Protection Agency publishes the notice of availability in the Federal Register.

The Forest Service believes, at this early stage, it is important to give reviewers notice of several court rulings related to public participation in the environmental review process. First, reviewers of the DEIS must structure their participation in the environmental review of the proposal so that it is meaningful and alerts an agency to the reviewer's position and contentions. Vermont Yankee Nuclear Power Corp. v. NRDC, 435 U.S. 519, 553 (1978). Also, environmental objections that could be raised at the DEIS stage but are not raised until after completion of the FEIS may be waived or dismissed by the courts. City of Angoon v. Hodel, 803 F. 2d 1016, 1002 (9th Cir., 1986) and Wisconsin Heritages, Inc. v. Harris, 490 F. Supp. 1334, 1338 (E.D. Wis. 1980). Because of these court rulings, it is very important that those interested in this proposed action participate by the close of the DEIS 45-day comment period so that substantive comments and objections are made available to the Forest Service at a time when it can meaningfully consider them and respond to them in the FEIS.

To assist the Forest Service in identifying and considering issues and concerns on the proposed action, comments on the DEIS should be as specific as possible. It is also helpful if comments refer to specific pages or chapters of the draft statement. Reviewers may wish to refer to the Council on Environmental Quality Regulations for implementing the procedural provisions of the National Environmental Policy Act at 40 CFR 1503.3 in addressing these points.

Responsible Official: Cecilia R. Seesholtz, Forest Supervisor, Boise National Forest, 1249 South Vinnell Way, Suite 200, Boise, ID 83709.

Dated: October 6, 2009.
Cecilia R. Seesholtz,
Forest Supervisor.

[FR Doc. E9-24523 Filed 10-9-09; 8:45 am]

BILLING CODE M